DEPARTMENT OF ENERGY

Federal Energy Regulatory Commission

[Project No. 2310-230]

Pacific Gas and Electric Company; Notice of Availability of Environmental Assessment

In accordance with the National Environmental Policy Act of 1969 and the Federal Energy Regulatory Commission (Commission) regulations, 18 CFR part 380 (Order No. 486, 52 FR 47897), the Office of Energy Projects has reviewed an application submitted by Pacific Gas and Electric Company (licensee) to allow Placer County Water Agency (PCWA), the use of Drum-Spaulding Hydroelectric Project No. 2310 project lands and water within the project boundary on South Canal for the construction of a raw water intake facility (facility). The Drum-Spaulding Hydroelectric Project is located on the Upper Yuba and Bear Rivers in Nevada and Placer counties, California. The project occupies federal lands administered by the U.S. Forest Service, U.S. Bureau of Reclamation, and U.S. Bureau of Land Management.

An Environmental Assessment (EA) has been prepared as part of Commission staff's review of the proposal. In the application, the licensee proposes to allow PCWA to construct a raw water intake facility on South Canal. Once constructed and operable, PCWA would use the facility as a redundant water withdrawal location to other withdrawal points within the project that it owns and operates, withdrawing up to 62 million gallons of water per day from the project through the proposed facility. Because the proposed facility would be a redundant withdrawal location, water withdrawn from the proposed facility would not represent an increase in water withdrawn from the project than what is already occurring. Following construction of the facility, PCWA would make minor repairs to an existing storm drain on the bank side of South Canal. This EA contains Commission staff's analysis of the probable environmental impacts of the construction and operation of the proposed facility, as well as the minor storm drain repairs, and concludes that approval of the proposal would not constitute a major federal action significantly affecting the quality of the human environment.

The EA is available for electronic review and reproduction at the Commission's Public Reference Room, located at 888 First Street NE, Room 2A, Washington, DC 20426. The EA may also be viewed on the Commission's website at http://www.ferc.gov using the “eLibrary” link. Enter the docket number (P-2310) in the docket number field to access the document. For assistance, contact FERC Online Support at FERCOnlineSupport@ferc.gov or toll-free at (866) 208-3372 or for TTY, (202) 502-8659.

For further information, contact Joy Kurtz at (202) 502-6760 or by email at Joy.Kurtz@ferc.gov.

Dated: August 2, 2019.
Kimberly D. Bose,
Secretary.

[FR Doc. 2019-16951 Filed 8-7-19; 8:45 am]

BILLING CODE 6717-01-P